DEPARTMENT OF THE INTERIOR

Bureau of Land Management

[14X LLIDI02000.13300000.EO0000 241A; 4500070627]

DEPARTMENT OF AGRICULTURE

Forest Service

Notice of Intent To Prepare an Environmental Impact Statement for the Proposed East Smoky Panel Mine Project at Smoky Canyon Mine, Caribou County, ID

AGENCY: Bureau of Land Management, Interior; United States Forest Service, USDA.

ACTION: Notice of intent.

SUMMARY: In compliance with the National Environmental Policy Act (NEPA) of 1969, the Federal Land Policy and Management Act (FLPMA) of 1976, the Mineral Leasing Act of 1920, as amended, and the National Forest Management Act of 1976, notice is hereby given that the Department of the Interior, Bureau of Land Management (BLM), Pocatello Field Office, Pocatello, Idaho, and the U.S. Department of Agriculture, Forest Service (USFS), Caribou-Targhee National Forest (CTNF), Idaho Falls, Idaho, will jointly prepare an environmental impact statement (EIS). The purpose of this EIS is to analyze the potential effects of approving a proposed lease modification and phosphate mine and reclamation plan (M&RP) (the Proposed Action) on Federal mineral leases held by the J.R. Simplot Company (Simplot), in southeastern Idaho; and to amend the CTNF Revised Forest Plan (2003) in conjunction with the project. In connection with its review of the Proposed Action, the EIS will also consider potential amendments to the CTNF Revised Forest Plan (2003). The BLM, as the Federal lease administrator, will serve as the lead agency and the USFS as the co-lead agency. The Idaho Department of Environmental Quality and the Idaho Department of Lands are cooperating agencies. This notice is announcing the beginning of the scoping process to solicit public comments and identify issues for analysis.

DATES: To ensure that comments will be considered, the BLM must receive written comments on the scope of the analysis described in this notice by May 4, 2015. The BLM will announce meetings and any other public involvement activities at least 15 days in advance through public notices, media news releases, and/or mailings. All comments must be received prior to the close of the 30-day scoping period or 15 days after the last public meeting, whichever is later, to be considered in the draft EIS. We will provide additional opportunities for public participation upon publication of the draft EIS.

ADDRESSES: You may submit written comments to: East Smoky Panel Mine EIS, C/O Stantec, formerly JBR Environmental Consultants, Inc., 8160 South Highland Drive, Sandy, Utah 84093, or via email at: blm_id_espm_eis@blm.gov. Please reference “East Smoky Panel Mine EIS” on all correspondence.

FOR FURTHER INFORMATION CONTACT: Steve Opp, Bureau of Land Management, Pocatello Field Office, 4350 Cliffs Drive, Pocatello, ID 83204, phone 208-478-6382. Scoping information will also be available at the BLM's website at: http://www.blm.gov/id/st/en/get_involved/nepa.html, or the USFS Web site at: http://www.fs.fed.us/nepa/nepa_project_exp.php?project=44748. Persons who use a telecommunications device for the deaf (TDD) may call the Federal Information Relay Service (FIRS) at 1-800-877-8339 to contact the above individual during normal business hours. The FIRS is available 24 hours a day, 7 days a week, to leave a message or question with Mr. Opp. You will receive a reply during normal business hours.

SUPPLEMENTARY INFORMATION: Simplot has submitted a proposed lease modification and M&RP for agency review for the East Smoky Panel leases (IDI-015259, IDI-026843, and IDI-012890) at the Smoky Canyon phosphate mine in Caribou County, Idaho. The Smoky Canyon mine, which Simplot operates, is located approximately 10 miles southwest of Afton, Wyoming, and approximately 5 miles west of the Idaho/Wyoming border. The proposed lease modification and M&RP for the East Smoky Panel of the Smoky Canyon mine would affect Federal phosphate leases administered by the BLM situated on National Forest System (NFS) lands, on unleased parcels of NFS lands (where a Special Use Authorization would be required), and on split estate land, where the surface estate is in private ownership and the subsurface estate (including rights to develop the mineral resources) is held by the Federal government under BLM management. The NFS lands involved lie within the Soda Springs Ranger District of the CTNF. The existing leases grant Simplot exclusive rights to mine and otherwise dispose of the federally owned phosphate deposit at the site. The M&RP submitted for approval details the manner in which Simplot proposes to exercise its mine development rights and constitutes the Proposed Action for purposes of the EIS.

The Proposed Action includes: (1) Development and reclamation of an open pit phosphate mine; (2) development and reclamation of mine infrastructure such as transmission lines, access roads, and other miscellaneous disturbances; (3) project-related lease modifications, such as the proposed modification of Lease IDI-015259 by adding 120 acres along the southwest side of the existing lease for mining-related disturbance; and (4) amendment of the CTNF Revised Forest Plan (2003) to address changes in the surface land management within the CTNF. In the proposed EIS, the BLM and the USFS will analyze the environmental impacts of approving potential lease modifications, the M&RP, and the Forest Plan Amendment. The EIS will also analyze the environmental impacts of reasonable alternatives to the Proposed Action. Additionally, the EIS will consider regional mitigation strategies for addressing the effects to wildlife habitat from phosphate mining. The Pocatello Field Office is currently developing these strategies.

Agency Decisions: The BLM Idaho State Director or delegated official will approve, approve with modifications, or deny the proposed lease modification and M&RP. The Director will base his decision on the EIS and any recommendations the USFS may have regarding surface management of leased NFS lands.

The USFS CTNF Supervisor will decide whether to amend the CTNF Revised Forest Plan. In addition, the CTNF Supervisor will make decisions on mine-related activities occurring off-lease within the CTNF. Special Use Authorizations from the USFS would be necessary for any off-lease structures located within the CTNF (e.g., relocated transmission lines, mine access roads, and miscellaneous disturbances). The USFS CTNF Supervisor will also make recommendations to the BLM concerning surface management and mitigation on leased lands within the CTNF.

The Army Corps of Engineers may also make decisions related to permits under Section 404 of the Clean Water Act.

Background: The BLM and the USFS authorized existing Smoky Canyon mining and milling operations in 1982, when the BLM issued a mine plan approval and the USFS issued Special Use Authorizations for off-lease activities. The agencies supported these decisions in the Smoky Canyon Mine Final EIS and Record of Decision (ROD). Mining operations began in Panel A in 1984 and have continued ever since with the mining of Panels A through G. Simplot submitted a proposed lease modification and M&RP for the East Smoky Panel in November 2013. The proposed East Smoky Project Area is located approximately one-half mile directly east of Panel A and, in the northern portion, adjacent to Panel B. A supplemental EIS for mining of Panels B and C, which addressed selenium issues and additional endangered species, was prepared in 2002; a subsequent ROD approved mining of Panels B and C. The BLM and USFS approved the mining of Panels F and G in 2008 and are in the process of publishing a Final EIS for the Panels F and G Lease and Mine Plan Modification Project.

The proposed M&RP provides for mining to occur over 12 years, with concurrent reclamation on both USFS and split estate lands to be completed in 2 to 3 years after cessation of mining. Development of the East Smoky Panel would consist of a single north-south linear open pit that would be mined sequentially in six distinguishable phases, beginning at the north end and ending at the south end of the pit on split estate land where Simplot owns the surface estate.

During mining in the northern portion of the East Smoky pit, overburden would be placed directly on the existing reclaimed Panel B pit, elevating contours to be closer to pre-mining topography than the currently approved final pit contours for Panel B. Overburden from the middle and southern portions of the East Smoky pit would be backfilled in the pit for concurrent reclamation. The East Smoky in-pit backfill would be maximized and there would be no external overburden placement, with the exception of some low-seleniferous overburden, which would be used in haul road and ramp construction. The proposal includes construction of an external haul road, which would run along the length of the ultimate East Smoky Panel. Chert and limestone from pit overburden operations would be used for coarse and durable armor in haul roads, water control ditches, culverts, and pond designs. All seleniferous overburden would receive a geologic store-and-release cover system consisting of chert, overlain by Dinwoody and/or Salt Lake Formation, and a topsoil layer.

Under the proposed M&RP, approximately 37 acres of the proposed pit would be constructed on presently unleased NFS land and backfilled with selenium-bearing waste rock. This would require modification (expansion) of Lease IDI-015259 by 120 acres. In addition to the pit and haul roads, new disturbance associated with development of the East Smoky Panel would include creation of topsoil stockpiles, reclamation material borrow areas, storm water ponds and ditches, and a possible dewatering pipeline. Two existing transmission lines that cross the proposed East Smoky Panel Project Area would have to be rerouted around the proposed open pit area. The 25-kilovolt (kV) transmission line crossing the northern portion of the Project Area would be relocated to the eastern edge of the existing Panel B disturbance. The 115-kV transmission line crosses the southern portion of the Project Area in an existing utility corridor, as required by the CTNF Revised Forest Plan, and would be relocated around the southern end of the proposed open pit. Relocating the utility corridor associated with the transmission line would require amending the CTNF Revised Forest Plan. Mining-related developments on unleased NFS land would require USFS Special Use Authorizations.

Total disturbance associated with the East Smoky Panel development would be approximately 847 acres, of which approximately 837 acres (nearly 99 percent) would be reclaimed, consistent with applicable Federal, State and local laws. Approximately 10 acres of pit disturbance on split estate land where Simplot owns the surface estate would not be reclaimed. The total new disturbance would be 699.9 acres, and 147.1 acres would be re-disturbance of the Smoky Canyon Mine at Panel B. On-lease disturbance of NFS land would be 438.7 acres with an additional 91.9 acres of NFS land disturbed off lease, which would require Special Use Authorizations from the USFS. Disturbance on split estate land on lease would be 217 acres and split estate land off-lease disturbance would be 99.4 acres. Total disturbance from external pit roads would be approximately 74 acres.

Simplot proposes reclamation activities that include backfilling mine pits, placing a store- and-release cover over waste rock, grading to return disturbed areas to more natural contours, re-establishing drainage patterns, and revegetation. Rocky pit walls comprise the unreclaimed two percent of the disturbance. The EIS will assess Simplot's proposed reclamation activities for compliance with the mandates and objectives in applicable Federal land use plans, including the CTNF Revised Forest Plan and the BLM Pocatello Resource Management Plan.

Ore from the new East Smoky Panel would be trucked to the existing Smoky Canyon mill facilities over new and existing haul roads to be concentrated. The existing slurry pipeline system would transport ore concentrate from the mill to the Simplot fertilizer plant in Pocatello, Idaho. Mill tailings would continue to be deposited in the currently approved and permitted tailings disposal facilities located on Simplot property east of the mine. The existing Smoky Canyon Mine facilities are adequate for use in the East Smoky Panel operations. These facilities include the main office, security building, septic system and parking; ore stockpile; mill and shop complex; tailings pond, slurry pipeline; culinary and production wells; water storage tanks, substation, and blasting supply storage.

The BLM and USFS will use NEPA public participation requirements to assist the agency in satisfying public involvement under the National Historic Preservation Act (NHPA) (54 U.S.C. 306108) pursuant to 36 CFR 800.2(d)(3). The information about historic and cultural resources within the area potentially affected by the Proposed Action will assist in identifying and evaluating impacts to such resources in the context of both NEPA and the NHPA.

The BLM and the USFS will consult with Indian tribes on a government-to-government basis in accordance with Executive Order 13175 and other policies. Tribal concerns, including impacts to treaty rights and potential impacts to cultural resources, will be given due consideration. Federal, State, and local agencies, along with tribes and other stakeholders that may be interested in or affected by the Proposed Action are invited to participate in the scoping process and, if eligible, may request or be requested by the BLM or the USFS to participate in the development of the environmental analysis as a cooperating agency.

Alternatives and Schedule: At a minimum, the EIS will analyze the Proposed Action and the No Action Alternative. Under the No Action Alternative, the proposed M&RP for development of the East Smoky Panel and Special Use Authorizations would not be approved, existing Federal mineral leases would not be modified, the CTNF Revised Forest Plan would not be amended. Mining pursuant to existing authorizations at other panels of the Smoky Canyon Mine would continue as currently authorized. In this case, Simplot would retain and be eligible to invoke the mining rights granted in their existing Federal leases at another time, with a revised M&RP that meets all regulatory and other established requirements. Other alternatives may be considered that could provide mitigation of potential impacts.

The tentative EIS project schedule is as follows:

• Begin public scoping period and meetings: Spring 2015.

• Release draft EIS and associated comment period: Summer 2016.

• Final EIS publication: Spring 2017.

• Record of Decision: Spring/Summer 2017.

Scoping Procedure: The scoping procedure for this EIS will involve notification in the Federal Register; a mailing to interested and potentially affected individuals, groups, and Federal, State, and local government entities requesting input; news releases or legal notices; and public scoping meetings.

Before including your address, phone number, email address, or other personal identifying information in your comment, you should be aware that your entire comment—including your personal identifying information—may be made publicly available at any time. While you can ask us in your comment to withhold your personal identifying information from public review, we cannot guarantee that we will be able to do so. Comments will be available for public review at the BLM office listed above during regular business hours (8:00 a.m. to 4:30 p.m.), Monday through Friday, except Federal holidays.

The BLM and the USFS are seeking information and written comments concerning the Proposed Action from Federal, State, Tribal, and local agencies, individuals, and organizations interested in, or affected by, the Proposed Action or the No Action Alternative. To assist the BLM and the USFS in identifying issues and concerns related to the Proposed Action, scoping comments should be as specific as possible. The portion of the proposed project related to USFS special use authorizations for off-lease activities is subject to the objection process pursuant to 36 CFR part 218 Subparts A and B. Only those who submit specific written comments on the Proposed Action, either during scoping or other designated opportunity for public comment, will be eligible as objectors (36 CFR 218.5). BLM appeal procedures found in 43 CFR part 4 apply to the portion of the project related to the development of Federal mineral estate including the Federal lease(s).

At least three “open-house” style public scoping meetings will be held during which the public may view displays explaining the project and ask questions and comment on the project. Meetings are planned to be held in Pocatello and Fort Hall, Idaho, and Afton, Wyoming. The dates, times, and locations of the public scoping meetings will be announced in mailings, public notices and news releases issued by the BLM and on the BLM Web site.

Authority: 16 U.S.C. 1600 et seq.; 42 U.S.C. 4321 et seq.; 40 CFR 1500-1508; 43 CFR 46; 30 U.S.C. 181 et seq.; 43 U.S.C. 1701 et seq.; AND 43 CFR 3590.

Karen Rice,
Acting District Manager, Idaho Falls District, Bureau of Land Management.
Garth Smelser,
Forest Supervisor, Caribou-Targhee National Forest.

[FR Doc. 2015-07587 Filed 4-2-15; 8:45 am]

BILLING CODE 4310-GG-P